ENVIRONMENTAL PROTECTION AGENCY

40 CFR Part 52

[EPA-R09-OAR-2010-0995; FRL-9296-9]

Approval and Promulgation of Implementation Plans; State of Nevada; PM-10; Determinations Regarding Attainment for the Truckee Meadows Nonattainment Area and Applicability of Certain Clean Air Act Requirements

AGENCY: Environmental Protection Agency (EPA).

ACTION: Final rule.

SUMMARY: EPA is finalizing two determinations regarding attainment for the Truckee Meadows PM-10 nonattainment area in Washoe County, Nevada (“Truckee Meadows area”). First, EPA is finalizing its determination that, based on complete and quality-assured air monitoring data for 1999-2001, the Truckee Meadows area did not attain the 24-hour National Ambient Air Quality Standard (“NAAQS”) for particulate matter with an aerodynamic diameter less than or equal to a nominal 10 micrometers (“PM-10”) by the applicable attainment date of December 31, 2001. Second, EPA is finalizing its determination that the Truckee Meadows area is currently attaining the PM-10 NAAQS, based upon complete, quality-assured PM-10 air quality monitoring data during the years 2007-2009. Preliminary data through June 2010 contained in EPA's Air Quality System (“AQS”) are also consistent with continued attainment of the 24-hour PM-10 NAAQS. Because the Truckee Meadows area is currently attaining the PM-10 NAAQS, EPA is also finalizing its determination that the obligation to make submissions to meet certain Clean Air Act (“CAA” or “the Act”) requirements related to attainment is not applicable for as long as the area continues to attain the PM-10 NAAQS.

DATES: This final rule is effective on May 19, 2011.

ADDRESSES: EPA has established a docket for this action under EPA-R09-OAR-2010-0995. Generally, documents in the docket for this action are available electronically at http://www.regulations.gov or in hard copy at EPA Region IX, 75 Hawthorne Street, San Francisco, California. While all documents in the docket are listed at http://www.regulations.gov, some information may be publicly available only at the hard copy location (e.g., copyrighted material, large maps, multi-volume reports) and some may not be available in either location (e.g., confidential business information (CBI)). To inspect the hard copy materials, please schedule an appointment during normal business hours with the contact listed in the FOR FURTHER INFORMATION CONTACT section.

FOR FURTHER INFORMATION CONTACT: Karina O'Connor, Air Planning Office (AIR-2), U.S. EPA Region IX, 75 Hawthorne Street, San Francisco, California 94105-3901, telephone (775) 434-8176; fax (415) 947-3579; e-mail address oconnor.karina@epa.gov.

SUPPLEMENTARY INFORMATION: Throughout this document, the terms “we,” “us,” and “our” refer to EPA. This supplementary information is organized as follows:

I. Summary of the Proposed Actions

On February 28, 2011, EPA proposed to determine, under sections 179(c)(1) and 188(b)(2) of the Act, that the Truckee Meadows area failed to attain the 24-hour PM-10 NAAQS by the applicable attainment date of December 31, 2001 (76 FR 10817). In that same action, EPA also proposed to determine that the Truckee Meadows area is currently attaining the PM-10 NAAQS. These two determinations regarding attainment were based upon complete and quality-assured data for the 1999-2001 and 2007-2009 periods gathered at established state and local air monitoring stations (“SLAMS”) in the nonattainment area and entered into the EPA AQS database. In addition, EPA found that preliminary data showed no exceedances of the 24-hour PM-10 NAAQS in the Truckee Meadows area during 2010. Id.

In conjunction with and based upon our proposed determination that the Truckee Meadows area is currently attaining the PM-10 NAAQS, we proposed under EPA's Clean Data Policy to determine that the obligation to submit certain CAA requirements is not applicable for as long as the Truckee Meadows area continues to attain the PM-10 NAAQS. Specifically, we proposed that the State's obligation to submit the following CAA requirements would be suspended if EPA finalized its rulemaking: The part D, subpart 4 obligations to provide an attainment demonstration pursuant to section 189(a)(1)(B), the reasonably available control measure (“RACM”) provisions of 189(a)(1)(C), the reasonable further progress (“RFP”) provisions established by section 189(c), the requirement for 189(d) plans, the attainment demonstration, RACM, RFP and contingency measure provisions of part D, subpart 1 contained in section 172 of the Act, and the requirement for additional plan revisions in section 179(d) of the Act.

For a more detailed discussion of our proposed actions, including background topics such as development of the PM-10 NAAQS, the designation, classification and air quality planning history for the Truckee Meadows area, our Clean Data Policy, and our general requirements for making attainment determinations, please refer to our proposed rule.

II. EPA's Response to Comments

Our February 28, 2011 proposed rule provided for a 30-day comment period. We did not receive any public comments in response to the proposed rule.

III. Final Actions

Pursuant to CAA sections 188(b)(2) and 179(c)(1) and based on complete, quality-assured data for the 1999-2001 period meeting the requirements of 40 CFR part 50, appendix K, we have determined that the Truckee Meadows nonattainment area failed to attain the 24-hour PM-10 NAAQS by the applicable attainment date of December 31, 2001. Failure by a “serious” nonattainment area such as Truckee Meadows to attain the PM-10 NAAQS by the applicable attainment date triggers a requirement for the State to submit additional plan revisions providing for attainment under CAA sections 189(d) and 179(d).

Separately and independently of the determination above, we have also determined, based on the most recent three years of complete, quality-assured data meeting the requirements of 40 CFR part 50, appendix K, that the Truckee Meadows area is currently attaining the 24-hour PM-10 NAAQS. Preliminary data for 2010 available in the AQS database are also consistent with continued attainment of the 24-hour PM-10 NAAQS. In conjunction with and based upon our determination that Truckee Meadows is currently attaining the standard, EPA has determined that the obligation to submit the following CAA requirements is not applicable for so long as the area continues to attain the PM-10 standard: The part D, subpart 4 obligations to provide an attainment demonstration pursuant to section 189(a)(1)(B), the RACM provisions of section 189(a)(1)(C), the RFP provisions of section 189(c), the requirement for 189(d) plans, the attainment demonstration, RACM, RFP and contingency measure provisions of part D, subpart 1 contained in section 172 of the Act, and the requirement for additional plan revisions in section 179(d) of the Act.

This final action does not constitute a redesignation to attainment under CAA section 107(d)(3) because we have neither approved a maintenance plan as required under section 175A of the CAA nor determined that the area has met the other CAA requirements for redesignation. The classification and designation status in 40 CFR part 81 remain serious nonattainment for this area until such time as EPA determines that Nevada meets the CAA requirements for redesignation of the Truckee Meadows area to attainment. Subsequently, if we determine after notice and comment rulemaking in the Federal Register that the Truckee Meadows area has violated the 24-hour PM-10 standard (prior to a redesignation to attainment), these requirements would once again become applicable.

IV. Statutory and Executive Order Reviews

This final action makes two determinations of attainment based on air quality, results in the suspension of certain Federal requirements, and does not impose additional requirements beyond those imposed by state law. For these reasons, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the CAA obligations discussed herein do not apply to Indian tribes and thus will not impose substantial direct costs on tribal governments or preempt tribal law.

Authority: 42 U.S.C. 7401 et seq.

Dated: April 9, 2011.
Jared Blumenfeld,
Regional Administrator, Region IX.

[FR Doc. 2011-9295 Filed 4-18-11; 8:45 am]

BILLING CODE 6560-50-P